ENVIRONMENTAL PROTECTION AGENCY

[FRL-7961-5]

Notice of Termination of Environmental Impact Statement for the Comprehensive Port Improvement Plan Within the Port of New York and New Jersey (PONYNJ)

AGENCY: U.S. Environmental Protection Agency (EPA), U.S. Army Corps of Engineers (USACE), and Federal Highway Administration (FHWA) acting as Federal co-lead agencies.

SUMMARY: The Federal co-lead agencies, EPA, USACE, FHWA are canceling the preparation of an Environmental Impact Statement (EIS) for the Comprehensive Port Improvement Plan (CPIP-EIS) for the PONYNJ. As originally planned, the CPIP and CPIP-EIS would define economically viable and environmentally sound Port facilities and associated transportation network improvement initiatives to the year 2060; consider separate, ongoing, and planned environmental enhancements to natural resources of the Port and associated transportation network; incorporate Green Port principles to the maximum extent practicable; and evaluate, avoid, minimize, and mitigate adverse environmental effects. EPA, on behalf of all three Federal co-lead agencies, published a Notice of Intent to prepare an EIS for the CPIP in the Federal Register (68 FR 19207, April 18, 2003). The three federal co-lead agencies conducted several public scoping meetings in December 2003 and January 2004.

The CPIP presents an array of conceptual long-term port improvement scenarios, some of which would involve future federal activities were they to be advanced to the status of a real project. Any future port-improvement projects involving federal actions, as defined under NEPA, would be required to undergo the applicable environmental review process. Given the considerable time period before the conceptual improvements identified in the CPIP Plan would become actual proposed projects with sponsors, a detailed environmental review and analysis, as conducted in an EIS, is not warranted at this time. As a result, the Federal co-lead agencies are canceling the EIS process. In the short-term, a programmatic analysis in the form of an Environmental Assessment will be prepared to identify what type of environmental review could be expected of any improvement projects that may be proposed. This programmatic Environmental Assessment will be available for public review in Fall 2005.

FOR FURTHER INFORMATION CONTACT: Grace Musumeci, U.S. Environmental Protection Agency, (212) 637-3738; Bryce Wisemiller, U.S. Army Corps of Engineers, (917) 790-8307; Richard E. Backlund, Federal Highway Administration, (212) 668-2205.

Dated: August 4, 2005.
Kathleen C. Callahan,
Acting Regional Administrator, Region 2.

[FR Doc. 05-17125 Filed 8-26-05; 8:45 am]

BILLING CODE 6560-50-P